DEPARTMENT OF COMMERCE

International Trade Administration

[A-570-108, C-570-109]

Ceramic Tile From the People's Republic of China: Notice of Court Decision Not in Harmony With Final Scope Ruling and Notice of Amended Final Scope Ruling Pursuant to Court Decision

AGENCY: Enforcement and Compliance, International Trade Administration, Department of Commerce.

SUMMARY: On October 20, 2025, the U.S. Court of International Trade (CIT) issued its final judgment in Elysium Tiles, Inc. et al v. United States, Court No. 23-00041, sustaining the U.S. Department of Commerce (Commerce)'s second remand redetermination pertaining to the scope ruling for the antidumping duty and countervailing duty orders on ceramic tile from the People's Republic of China. Commerce is notifying the public that the CIT's final judgment is not in harmony with Commerce's scope ruling, and that Commerce is amending the scope ruling to find that Elysium Tiles, Inc. and Elysium Tile Florida, Inc. (collectively, Elysium)'s composite tile is not covered by the scope of the Orders.¹

¹ See Ceramic Tile from the People's Republic of China: Antidumping Duty Order, 85 FR 33089 (June 1, 2020); and Ceramic Tile from the People's Republic of China: Countervailing Duty Order, 85 FR 33119 (June 1, 2020) (collectively, the Orders).

DATES: Applicable October 30, 2025.

FOR FURTHER INFORMATION CONTACT: George McMahon, AD/CVD Operations, Office VI, Enforcement and Compliance, International Trade Administration, U.S. Department of Commerce, 1401 Constitution Avenue NW, Washington, DC 20230; telephone: (202) 482-1167.

SUPPLEMENTARY INFORMATION:

Background

On January 25, 2023, Commerce found Elysium's composite tile to be covered by the scope of the Orders.² On July 18, 2024, the CIT remanded Commerce's final scope ruling as unsupported by substantial evidence and not in accordance with law.³

² See Memorandum, “Final Scope Ruling on Elysium's Composite Tile,” dated January 25, 2023 (Final Scope Ruling).

³ See Elysium Tiles, Inc. v. United States, 719 F. Supp. 3d 1289 (CIT 2024) (Remand Order).

The CIT held that Commerce: (1) failed to provide an adequate summary of an ex parte meeting; and (2) failed to show with substantial evidence that either, under 19 CFR 351.225(k)(1), the Orders' scope language contemplates products such as marble composite tile, or that, under 19 CFR 351.225(k)(2), the marble composite tile truly is considered a form of ceramic tile in purpose, function, advertising, and use.⁴ In its first remand redetermination,⁵ Commerce supplemented the ex parte memorandum to provide a more detailed summary, and Commerce continued to find that Elysium's composite tile was within the scope based upon the plain language of the scope, which included ceramic tile with decorative features.

⁴ See Remand Order at 18-19 and 11 n.5 (noting that because Elysium submitted its scope application prior to Commerce's recent revisions to the scope regulation, all citations are to the prior regulations); see also 19 CFR 351.225(k) (2023).

⁵ See Final Results of Redetermination Pursuant to Court Remand, Elysium Tiles, Inc., and Elysium Tile Florida, Inc., v. United States, Court No. 23-00041, Slip. Op. 24-80 (CIT July 18, 2024), dated October 29, 2024 (First Remand Redetermination), available at: https://access.trade.gov/public/FinalRemandRedetermination.aspx.

On March 11, 2025, the CIT sustained, in part, and remanded, in part, Commerce's First Remand Redetermination.⁶ In the Second Remand Order, the CIT held that the summary of the ex parte meeting was adequate.⁷ However, the CIT remanded Commerce's First Remand Redetermination, instructing Commerce to consider the five additional factors set out in 19 CFR 351.225(k)(2)(i).⁸ Pursuant to the Second Remand Order, in its final remand redetermination, Commerce analyzed the factors set out in 19 CFR 351.225(k)(2)(i) and determined, based on those factors, that Elysium's composite tile is not covered by the scope of the Orders.⁹ The CIT sustained Commerce's final redetermination.¹⁰

⁶ See Elysium Tiles, Inc. v. United States, 762 F. Supp. 3d 1352 (CIT 2025) (Second Remand Order).

⁷ See Second Remand Order at 2 and 4.

⁸ Id. at 12.

⁹ See “Final Results of Redetermination Pursuant to Court Remand,” Court No. 23-00041, Slip. Op. 25-25 (CIT March 11, 2025), dated June 6, 2024 (First Remand Redetermination), available at: https://access.trade.gov/public/FinalRemandRedetermination.aspx.

¹⁰ See Elysium Tiles, Inc. v. United States, No. 23-00041, Slip. Op. 25-138, 2025 Ct. Int'l Trade LEXIS 145 (Ct. Int'l Trade October 20, 2025).

Timken Notice

In its decision in Timken,¹¹ as clarified by Diamond Sawblades,¹² the U.S. Court of Appeals for the Federal Circuit held that, pursuant to section 516A(c) and (e) of the Tariff Act of 1930, as amended (the Act), Commerce must publish a notice of court decision that is not “in harmony” with a Commerce determination and must suspend liquidation of entries pending a “conclusive” court decision. The CIT's October 20, 2025, judgment constitutes a final decision of the CIT that is not in harmony with Commerce's Final Scope Ruling. Thus, this notice is published in fulfillment of the publication requirements of Timken.

¹¹ See Timken Co. v. United States, 893 F.2d 337 (Fed. Cir. 1990) (Timken).

¹² See Diamond Sawblades Manufacturers Coalition v. United States, 626 F.3d 1374 (Fed. Cir. 2010) (Diamond Sawblades).

Amended Final Scope Ruling

In accordance with the CIT's October 20, 2025, final judgment, Commerce is amending its Final Scope Ruling and finds that the scope of the order does not cover the products addressed in the Final Scope Ruling.

Liquidation of Suspended Entries

Commerce will instruct U.S. Customs and Border Protection (CBP) that, pending any appeals, the cash deposit rate will be zero percent for Elysium's composite tile. In the event that the CIT's final judgment is not appealed or is upheld on appeal, Commerce will instruct CBP to liquidate entries of ceramic tile without regard to antidumping and countervailing duties and to lift suspension of liquidation of such entries.

At this time, Commerce remains enjoined by the CIT from liquidating entries not covered by the scope of the Orders by the Final Scope Ruling. These entries will remain enjoined pursuant to the terms of the injunction during the pendency of any appeals process.

Notification to Interested Parties

This notice is issued and published in accordance with sections 516A(c) and (e), and 777(i)(1) of the Act.

Dated: December 18, 2025.
Christopher Abbott,
Deputy Assistant Secretary for Policy and Negotiations, performing the non-exclusive functions and duties of the Assistant Secretary for Enforcement and Compliance.

[FR Doc. 2025-23698 Filed 12-22-25; 8:45 am]

BILLING CODE 3510-DS-P